DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Butler County, Ohio, and Incorporated Areas Docket No.: FEMA-B-1075
Dicks Creek | Approximately 500 feet upstream of Main Street | +631 | City of Middletown, City of Monroe, Unincorporated Areas of Butler County.
| Approximately 1,270 feet upstream of Cincinnati-Dayton Road | +660
Elk Creek | Approximately 0.7 mile downstream of Howe Road | +648 | City of Trenton.
| Approximately 0.5 mile downstream of Howe Road | +654
Four Mile Creek | Approximately 0.7 mile upstream of Seven Mile Avenue | +600 | Village of New Miami.
| Approximately 0.8 mile upstream of Seven Mile Avenue | +601
Four Mile Creek | Approximately 1,250 feet upstream of Bonham Road | +796 | City of Oxford.
GM Ditch | At the confluence with Pleasant Run | +596 | City of Fairfield.
| Approximately 1,200 feet upstream of Symmes Road | +605
Great Miami River | Approximately 1.4 mile upstream of the confluence with Gregory Creek | +626 | City of Trenton.
Great Miami River | Approximately 0.5 mile downstream of State Route 73 | +637 | City of Middletown.
| Approximately 1.5 mile upstream of State Route 4 | +661
Jackson Ditch | Approximately 1,000 feet downstream of Wehr Road | +627 | Unincorporated Areas of Butler County.
| Approximately 1,840 feet upstream of Trenton Road | +649
Jackson Ditch East Fork | At the confluence of Jackson Ditch East Branch of East Fork with Jackson Ditch East Fork | +701 | Unincorporated Areas of Butler County.
| Approximately 110 feet upstream of Howe Road | +750
Jackson Ditch East Fork | At the confluence with Jackson Ditch | +651 | City of Trenton, Unincorporated Areas of Butler County.
| Approximately 80 feet upstream of Howe Road | +756
Jackson Ditch West Fork | At the confluence with Jackson Ditch | +651 | Unincorporated Areas of Butler County.
| Approximately 130 feet upstream of Howe Road | +807
Mill Creek | Just downstream of Seward Road | +606 | City of Hamilton.
| Approximately 190 feet upstream of Seward Road | +609
Millers Creek | Approximately 500 feet downstream of the railroad | +652 | City of Middletown.
| Approximately 400 feet downstream of Cincinnati-Dayton Road | +654
Pleasant Run | Just upstream of Groh Lane | +566 | City of Fairfield.
| Just downstream of East River Road | +584
| Just upstream of Niles Road | +598
| Just upstream of John Gray Road | +665
Pleasant Run Branch No. 4 | At the confluence with Pleasant Run | +610 | City of Fairfield.
| Just upstream of Resor Road | +634
Shakers Creek | At the confluence with Dick Creek | +650 | City of Middletown.
| Just downstream of Cincinnati-Dayton Road | +654
* National Geodetic Vertical Datum.
+ North American Vertical Datum.
# Depth in feet above ground.
‸ Mean Sea Level, rounded to the nearest 0.1 meter.
ADDRESSES
City of Fairfield
Maps are available for inspection at 5350 Pleasant Avenue, Fairfield, OH 45014.
City of Hamilton
Maps are available for inspection at 20 High Street, Hamilton, OH 45011.
City of Middletown
Maps are available for inspection at 1 Donham Plaza, Middletown, OH 45042.
City of Monroe
Maps are available for inspection at 233 South Main Street, Monroe, OH 45050.
City of Oxford
Maps are available for inspection at 101 East High Street, Oxford, OH 45056.
City of Trenton
Maps are available for inspection at 11 East State Street, Trenton, OH 45067.
Unincorporated Areas of Butler County
Maps are available for inspection at 130 High Street, 3rd Floor, Hamilton, OH 45011.
Village of New Miami
Maps are available for inspection at 268 Whitaker Avenue, Hamilton, OH 45011.

(Catalog of Federal Domestic Assistance No. 97.022, “Flood Insurance.”)

Dated: December 10, 2010.
Sandra K. Knight,
Deputy Federal Insurance and Mitigation Administrator, Mitigation, Department of Homeland Security, Federal Emergency Management Agency.

[FR Doc. 2010-31666 Filed 12-16-10; 8:45 am]

BILLING CODE 9110-12-P